NUCLEAR REGULATORY COMMISSION

[NRC-2026-0069]

Monthly Notice; Applications and Amendments to Facility Operating Licenses and Combined Licenses Involving No Significant Hazards Considerations

AGENCY: Nuclear Regulatory Commission.

ACTION: Monthly notice.

SUMMARY: Pursuant to section 189a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by February 19, 2026. A request for a hearing or petitions for leave to intervene must be filed by March 23, 2026. This monthly notice includes all amendments issued, or proposed to be issued, from December 5, 2025, to December 31, 2025. The last monthly notice was published on December 23, 2025.

ADDRESSES: You may submit comments by any of the following methods; however, the NRC encourages electronic comment submission through the Federal rulemaking website.

• Federal rulemaking Website: Go to https://www.regulations.gov and search for Docket ID NRC-2026-0069. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Susan Lent, Office of Nuclear Reactor Regulation, U.S. Nuclear Regulatory Commission, Washington, DC 20555-0001; telephone: 301-415-1365; email: Susan.Lent@NRC.gov.

SUPPLEMENTARY INFORMATION:

I. Obtaining Information and Submitting Comments

A. Obtaining Information

Please refer to Docket ID NRC-2026-0069, facility name, unit number(s), docket number(s), application date, and subject when contacting the NRC about the availability of information for this action. You may obtain publicly available information related to this action by any of the following methods:

• Federal Rulemaking Website: Go to https://www.regulations.gov and search for Docket ID NRC-2026-0069.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2026-0069, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website (https://www.nrc.gov/about-nrc/regulatory/adjudicatory/hearing.html#participate).

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056), and on the NRC's public website (https://www.nrc.gov/site-help/e-submittals.html).

To comply with the procedural requirements of E-Filing, at least 10 days prior to the filing deadline, the participant should contact the Office of the Secretary by email at Hearing.Docket@nrc.gov, or by telephone at 301-415-1677, to: (1) request a digital identification (ID) certificate which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website (https://www.nrc.gov/site-help/e-submittals/getting-started.html). After a digital ID certificate is obtained and a docket is created, the participant must submit adjudicatory documents in the Portable Document Format. Guidance on submissions is available on the NRC's public website (https://www.nrc.gov/site-help/electronic-sub-ref-mat.html). A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed in order to obtain access to the documents via the E-Filing system.

A person filing electronically using the NRC's adjudicatory E-Filing system may seek assistance by contacting the NRC's Electronic Filing Help Desk through the “Contact Us” link located on the NRC's public website (https://www.nrc.gov/site-help/e-submittals.html), by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless otherwise excluded pursuant to an order of the presiding officer. If you do not have an NRC-issued digital ID certificate as previously described, click “cancel” when the link requests certificates and you will be automatically directed to the NRC's electronic hearing docket where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the nuclear power plant names, docket numbers, dates of application, ADAMS accession numbers, and locations in the application of the licensees' proposed NSHC determination. For further details with respect to these license amendment applications, see the applications for amendment, publicly available portions of which are available for public inspection in ADAMS. For additional direction on accessing information related to this document, see the “Obtaining Information and Submitting Comments” section of this document.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Requests
Constellation Energy Generation, LLC; Calvert Cliffs Nuclear Power Plant, Unit 2; Calvert County, MD
Docket No | 50-318.
Application date | October 30, 2025.
ADAMS Accession No | ML25303A324.
Location in Application of NSHC | Pages 13-15 of Attachment 1.
Brief Description of Amendment | The proposed amendment is a one-time extension to the Technical Specification 3.8.3, “Diesel Fuel Oil, Condition C Completion Time for Fuel Oil Storage Tank 21,” to allow the Fuel Oil Storage Tank 21 to be out of service for a required Maryland state inspection during the 2027 Unit 2 Refueling Outage for up to 14 days.
Proposed Determination | NSHC.
Name of Attorney for Licensee, Mailing Address | Jason Zorn, Associate General Counsel, Constellation Energy Generation, LLC, 101 Constitution Ave. NW, Suite 400 East, Washington, DC 20001.
NRC Project Manager, Telephone Number | Sam Bina, 301-415-3425.
Constellation Energy Generation, LLC; Calvert Cliffs Nuclear Power Plant, Units 1 and 2; Calvert County, MD
Docket Nos | 50-317, 50-318.
Application date | December 18, 2025.
ADAMS Accession No | ML25352A315.
Location in Application of NSHC | Pages 9-10 of Attachment 1.
Brief Description of Amendments | The proposed license amendments would relocate the reactor protective system loss of load function from the technical specifications to the technical requirements manual.
Proposed Determination | NSHC.
Name of Attorney for Licensee, Mailing Address | Jason Zorn, Associate General Counsel, Constellation Energy Generation, LLC, 101 Constitution Ave. NW, Suite 400 East, Washington, DC 20001.
NRC Project Manager, Telephone Number | Sam Bina, 301-415-3425.
Constellation Energy Generation, LLC; Limerick Generating Station, Unit 1; Montgomery County, PA
Docket No | 50-352.
Application date | October 9, 2025.
ADAMS Accession No | ML25282A072.
Location in Application of NSHC | Pages 20-22 of Attachment 1.
Brief Description of Amendment | The proposed amendment would revise the technical specifications to allow a one-time exception to local leakage rate testing for certain containment isolation valves and an administrative formatting change.
Proposed Determination | NSHC.
Name of Attorney for Licensee, Mailing Address | Jason Zorn, Associate General Counsel, Constellation Energy Generation, LLC, 101 Constitution Ave. NW, Suite 400 East, Washington, DC 20001.
NRC Project Manager, Telephone Number | Audrey Klett, 301-415-0489.
Dominion Energy Nuclear Connecticut, Inc.; Millstone Power Station, Unit No. 2; New London County, CT
Docket No | 50-336.
Application date | December 18, 2025.
ADAMS Accession No | ML25353A569.
Location in Application of NSHC | Pages 2-4 of Attachment 1.
Brief Description of Amendment | The proposed amendment would adopt Technical Specifications Task Force (TSTF) Traveler 601, “Extend Shield Building Completion Time After Refueling,” into the MPS2 technical specifications (TS). TSTF-601 revises the shield building TS to add a new Action that is applicable prior to criticality following a refueling outage. The licensee requests that the amendment be reviewed under the Consolidated Line Item Improvement Process.
Proposed Determination | NSHC.
Name of Attorney for Licensee, Mailing Address | W.S. Blair, Senior Counsel, Dominion Energy Services, Inc., 120 Tredegar St., RS-2, Richmond, VA 23219.
NRC Project Manager, Telephone Number | Theo Edwards, 301-415-1721.
Dominion Energy South Carolina, Inc.; Virgil C. Summer Nuclear Station, Unit 1, Fairfield County, SC
Docket No | 50-395.
Application date | November 9, 2025.
ADAMS Accession No | ML25317A687.
Location in Application of NSHC | Pages 8-9 of Attachment 1.
Brief Description of Amendment | The proposed amendment would replace the 10 percent Wide Range requirement with a 25 percent Narrow Range requirement, as described in the application.
Proposed Determination | NSHC.
Name of Attorney for Licensee, Mailing Address | W.S. Blair, Senior Counsel, Dominion Energy Services, Inc., 120 Tredegar St., RS-2, Richmond, VA 23219.
NRC Project Manager, Telephone Number | G. Ed Miller, 301-415-2481.
Duke Energy Carolinas, LLC; Catawba Nuclear Station, Units 1 and 2; York County, SC
Docket Nos | 50-413, 50-414.
Application date | September 30, 2025.
ADAMS Accession No | ML25273A166.
Location in Application of NSHC | Pages 26-28 of the Enclosure.
Brief Description of Amendments | The proposed amendments would modify the licensing basis, by the addition of a License Condition, to allow for the implementation of the provisions of 10 CFR 50.69, “Risk-informed Categorization and Treatment of Structures, Systems and Components for Nuclear Power Reactors.”
Proposed Determination | NSHC.
Name of Attorney for Licensee, Mailing Address | Tracey Mitchell LeRoy, Deputy General Counsel, Duke Energy Corporation, 525 S Tryon Street, Charlotte, NC 28202.
NRC Project Manager, Telephone Number | Shawn Williams, 301-415-1009.
Duke Energy Carolinas, LLC; Catawba Nuclear Station, Units 1 and 2; York County, SC
Docket Nos | 50-413, 50-414.
Application date | September 30, 2025.
ADAMS Accession No | ML25273A162.
Location in Application of NSHC | Pages 7-8 of the Enclosure.
Brief Description of Amendments | The proposed amendments would modify Technical Specification requirements to permit the use of Risk-Informed Completion Times in accordance with Technical Specifications Task Force (TSTF) Traveler TSTF-505, Revision 2, “Provide Risk-Informed Extended Completion Times—RITSTF Initiative 4b.” The proposed amendments also incorporates NRC-approved traveler TSTF-591, Revision 0, “Revise the Risk Informed Completion Time (RICT) Program.”
Proposed Determination | NSHC.
Name of Attorney for Licensee, Mailing Address | Tracey Mitchell LeRoy, Deputy General Counsel, Duke Energy Corporation, 525 S Tryon Street, Charlotte, NC 28202.
NRC Project Manager, Telephone Number | Shawn Williams, 301-415-1009.
Duke Energy Carolinas, LLC; Catawba Nuclear Station, Units 1 and 2; York County, SC; Duke Energy Carolinas, LLC; McGuire Nuclear Station, Units 1 and 2; Mecklenburg County, NC; Duke Energy Progress, LLC; Brunswick Steam Electric Plant, Units 1 and 2; Brunswick County, NC; Duke Energy Progress, LLC; H.B. Robinson Steam Electric Plant, Unit No. 2; Darlington County, SC
Docket Nos | 50-325, 50-324, 50-413, 50-414, 50-369, 50-370, 50-261.
Application date | October 9, 2025.
ADAMS Accession No | ML25282A076.
Location in Application of NSHC | Pages E-23-E-24 of the Enclosure.
Brief Description of Amendments | The proposed amendments would revise Technical Specification (TS) 1.1, “Use and Application Definitions,” for Brunswick Steam Electric Plant Units 1 and 2 (BSEP); Catawba Nuclear Station Units 1 and 2 (CNS); McGuire Nuclear Station Units 1 and 2 (MNS); and H. B. Robinson Steam Electric Plant Unit No. 2 (HBRSEP). The amendments would add new TS 5.5.16 for BSEP, TS 5.5.18 for CNS, TS 5.5.19 for MNS, and TS 5.5.19 for HBRSEP, titled “Online Monitoring Program.” Duke Energy proposes to use online monitoring (OLM) methodology as the technical basis for moving from time-based calibration surveillance frequencies to condition-based frequencies informed by OLM results.
Proposed Determination | NSHC.
Name of Attorney for Licensee, Mailing Address | Tracey Mitchell LeRoy, Deputy General Counsel, Duke Energy Corporation, 525 S Tryon Street, Charlotte, NC 28202.
NRC Project Manager, Telephone Number | Shawn Williams, 301-415-1009.
Energy Northwest; Columbia Generating Station; Benton County, WA
Docket No | 50-397.
Application date | September 2, 2025.
ADAMS Accession No | ML25245A260.
Location in Application of NSHC | Pages 1-3 of the Enclosure.
Brief Description of Amendment | The proposed amendment would adopt Technical Specifications Task Force (TSTF) Traveler TSTF-599, “Eliminate Periodic Surveillance Test of Simultaneous Start of Redundant Diesel Generators,” which is an approved change to the Standard Technical Specifications, into Columbia's Technical Specifications. The proposed change would eliminate the periodic surveillance requirement to verify that all required diesel generators achieve rated frequency and voltage within the specified time period when started simultaneously.
Proposed Determination | NSHC.
Name of Attorney for Licensee, Mailing Address | Ryan Lukson, Assistant General Counsel, Energy Northwest, MD 1020, P.O. Box 968, Richland, WA 99352.
NRC Project Manager, Telephone Number | Mahesh Chawla, 301-415-8371.
Entergy Operations, Inc.; Waterford Steam Electric Station, Unit 3; St. Charles Parish, LA
Docket No | 50-382.
Application date | August 26, 2025.
ADAMS Accession No | ML25238A051.
Location in Application of NSHC | Pages 6-7 of the Enclosure.
Brief Description of Amendment | The proposed amendment requests approval to revise the Waterford Steam Electric Station, Unit 3, Technical Specification Section 5.0, “Design Features,” consistent with the Design Features section of NUREG-1432, Revision 5, “Standard Technical Specification, Combustion Engineering Plants.”
Proposed Determination | NSHC.
Name of Attorney for Licensee, Mailing Address | Susan Raimo, Associate General Counsel—Nuclear, 101 Constitution Avenue NW, Washington, DC 20001.
NRC Project Manager, Telephone Number | Jason Drake, 301-415-8378.
Florida Power & Light Company; St. Lucie Plant, Unit 1; St. Lucie County, FL
Docket No | 50-335.
Application date | September 19, 2025.
ADAMS Accession No | ML25262A024.
Location in Application of NSHC | Pages 9-10 of Enclosure 1.
Brief Description of Amendment | The proposed license amendment would revise St. Lucie Plant, Unit No. 1, Technical Specification 5.6.3, “Core Operating Limits Report,” by updating the listing of NRC-approved analytical methods used to determine the core operating limits. Specifically, changes to the fuel thermal-mechanics, core thermal-hydraulics, emergency core cooling, nuclear design, and select design basis event analyses are proposed using NRC approved advanced codes and methods in support of a St. Lucie Plant, Unit No. 1, transition to 24-month fuel cycles.
Proposed Determination | NSHC.
Name of Attorney for Licensee, Mailing Address | James Petro, Managing Attorney—Nuclear, Florida Power and Light Company 700 Universe Boulevard, MS LAW/JB, Juno Beach, FL 33408-0420.
NRC Project Manager, Telephone Number | Maria Elena Herrera Torres, 301-415-8208.
Southern Nuclear Operating Company, Inc.; Edwin I. Hatch Nuclear Plant, Units 1 and 2; Appling County, GA
Docket Nos | 50-321, 50-366.
Application date | December 5, 2025.
ADAMS Accession No | ML25339A156.
Location in Application of NSHC | Pages E-2 and E-3 of the enclosure.
Brief Description of Amendments | The proposed amendments request adoption of Technical Specification Task Force (TSTF)-576, Revision 3, “Revise Safety/Relief Valve Requirements.” The proposed change revises the Safety/Relief Valve Technical Specification to align the overpressure protection requirements with the safety limits and the regulations.
Proposed Determination | NSHC.
Name of Attorney for Licensee, Mailing Address | Millicent Ronnlund, Vice President and General Counsel, Southern Nuclear Operating Co., Inc., P.O. Box 1295, Birmingham, AL 35201-1295.
NRC Project Manager, Telephone Number | John Lamb, 301-415-3100.
Vistra Operations Company LLC; Comanche Peak Nuclear Power Plant, Unit Nos. 1 and 2; Somervell County, TX
Docket Nos | 50-445, 50-446.
Application date | July 24, 2025.
ADAMS Accession No | ML25209A150.
Location in Application of NSHC | Pages 3-4 of the Enclosure.
Brief Description of Amendments | The proposed amendments would revise technical specifications to adopt Technical Specifications Task Force (TSTF) Traveler TSTF-432, “Change in Technical Specifications End States (WCAP-16294).”
Proposed Determination | NSHC.
Name of Attorney for Licensee, Mailing Address | Carey Fleming, Senior Counsel, Pinnacle West Capital Corporation, 500 N 5th Street, MS 8695, Phoenix, AZ 85004.
NRC Project Manager, Telephone Number | William Orders, 301-415-3329.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, were published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuances
Constellation Energy Generation, LLC; Dresden Nuclear Power Station, Unit 1, Grundy County, IL
Docket No | 50-010.
Amendment Date | December 17, 2025.
ADAMS Accession No | ML25343A122.
Amendment No | 51.
Brief Description of Amendment | The amendment modified Dresden Nuclear Power Station (Dresden), Unit 1 Technical Specification (TS) 5.1.A, “Site and Exclusion Area” to align with Dresden, Units 2 and 3, TS 4.1.1, “Site and Exclusion Area Boundaries,” and removes the specific acreage value. Removing the specific acreage value does not change the site area boundary or exclusion area.
Public Comments Received as to Proposed NSHC (Yes/No) | No.
Constellation Energy Generation, LLC; Zion Nuclear Power Station, Units 1 and 2; Lake County, IL
Docket Nos | 50-295, 50-304, 72-1037.
Amendment Date | December 2, 2025.
ADAMS Accession No | ML25254A166 (Package).
Amendment Nos | 193 (Unit 1), and 180 (Unit 2).
Brief Description of Amendments | The amendments deleted license conditions relating to the License Termination Plan and deleted license conditions relating to the terms and conditions of decommissioning trust agreements, and, instead, conform to the 10 CFR 50.75(h) regulations.
Public Comments Received as to Proposed NSHC (Yes/No) | No.
Dominion Energy Nuclear Connecticut, Inc.; Millstone Power Station, Unit No. 3; New London County, CT
Docket No | 50-423.
Amendment Date | December 16, 2025.
ADAMS Accession No | ML25339A001.
Amendment No | 293.
Brief Description of Amendment | The amendment adopted Technical Specifications (TS) Task Force (TSTF) Traveler TSTF-577, Revision 1, “Revised Frequencies for Steam Generator Tube Inspections.” The amendment revised the TSs related to steam generator tube inspections and reporting requirements in TS section 6.8.4.g, “Steam Generator (SG) Program,” and TS section 6.9.1.7, “Steam Generator Tube Inspection Report,” respectively, based on operating history.
Public Comments Received as to Proposed NSHC (Yes/No) | No.
Dominion Energy South Carolina, Inc.; Virgil C. Summer Nuclear Station, Unit 1, Fairfield County, SC
Docket No | 50-395.
Amendment Date | December 30, 2025.
ADAMS Accession No | ML25342A206.
Amendment No | 228.
Brief Description of Amendment | The amendment modified Technical Specification 6.8.4.g, “Containment Leakage Rate Testing Program,” to replace the reference to Nuclear Energy Institute (NEI) Technical Report 94-01, Revision 2-A, with NEI Technical Report 94-01, Revision 3-A, and conditions and limitations specified in NEI-94-01, Revision 2-A, as described in the request.
Public Comments Received as to Proposed NSHC (Yes/No) | No.
Duke Energy Florida, LLC; Crystal River Unit 3 Nuclear Generating Plant; Citrus County, FL
Docket No | 50-302.
Amendment Date | December 18, 2025.
ADAMS Accession No | ML25241A165 (Package).
Amendment No | 262.
Brief Description of Amendment | The amendment approved an application submitted by Accelerated Decommissioning Partners Crystal River Unit 3, LLC to remove 618 acres of property, classified as either radiologically non-impacted or Multi-Agency Radiation Survey and Site Investigation Manual Class 3. As part of the request, the NRC also amended the Crystal River Unit 3 Operating License to reflect approval of a January 2, 2020, partial site release (ML19339G509).
Public Comments Received as to Proposed NSHC (Yes/No) | No.
Entergy Operations, Inc., System Energy Resources, Inc., Cooperative Energy, A Mississippi Electric Cooperative, and Entergy Mississippi, LLC; Grand Gulf Nuclear Station, Unit 1; Claiborne County, MS
Docket No | 50-416.
Amendment Date | December 17, 2025.
ADAMS Accession No | ML25324A332.
Amendment No | 239.
Brief Description of Amendment | The amendment allowed crediting of NETCO-SNAP-IN® neutron absorbing rack inserts in the criticality safety analysis (CSA) for the storage rack cells in the station's spent fuel storage facility. The amendment revised the technical specifications (TS) regarding criticality design features of the spent fuel storage racks as contained in TS 4.3, “Fuel Storage,” Subpart 4.3.1, “Criticality,” to specifically identify the neutron absorbing inserts, remove requirements for Region II storage racks, and to update the value of K-infinity used in the CSA, consistent with Standard Technical Specifications (STS). Lastly, the amendment added a new program requirement in TS 5.5, “Programs and Manuals,” that implements a monitoring program for the neutron absorbing rack inserts, consistent with STS improvement initiatives.
Public Comments Received as to Proposed NSHC (Yes/No) | No.
Florida Power & Light Company, et al.; St. Lucie Plant, Unit No. 2; St. Lucie County, FL
Docket No | 50-389.
Amendment Date | December 12, 2025.
ADAMS Accession No | ML25258A158.
Amendment No | 213.
Brief Description of Amendment | The amendment revised the St. Lucie Plant, Unit No. 2, Technical Specification 5.6.3, “Core Operating Limits Report,” by updating the listing of NRC-approved analytical methods used to determine the core operating limits. Specifically, changes to the fuel thermal-mechanics, core thermal hydraulics, emergency core cooling, nuclear design, and select design-basis event analyses were proposed using NRC-approved advanced codes and methods in support of a St. Lucie, Unit No. 2, transition to 24-month fuel cycles.
Public Comments Received as to Proposed NSHC (Yes/No) | No.
Southern Nuclear Operating Company, Inc.; Edwin I. Hatch Nuclear Plant, Unit Nos. 1 and 2; Appling County, GA
Docket Nos | 50-321, 50-366.
Amendment Date | December 30, 2025.
ADAMS Accession No | ML25350C117.
Amendment Nos | 330 and 275.
Brief Description of Amendments | The amendments revised Edwin I. Hatch Nuclear Plant Technical Specification (TS) Surveillance Requirement (SR) diesel generator (DG) loading required by SR 3.8.1.2 and SR 3.8.1.5. Specifically, the change replaced the current DG loading requirements with a loading requirement of 90 to 100 percent of the continuous rating for the DGs.
Public Comments Received as to Proposed NSHC (Yes/No) | No.
Southern Nuclear Operating Company, Inc.; Vogtle Electric Generating Plant, Units 3 and 4; Burke County, GA
Docket Nos | 52-025, 52-026.
Amendment Date | December 30, 2025.
ADAMS Accession No | ML25351A015.
Amendment Nos | 210 and 208.
Brief Description of Amendments | The amendments revised the technical specifications (TSs) to increase flexibility in mode restraints. The changes are similar to those described in Technical Specification Task Force (TSTF) 359, Revision 9, “Increased Flexibility in Mode Restraints,” with changes similar to those identified in TSTF-529, Revision 4, “Clarify Use and Application Rules,” for Limiting Condition for Operation 3.0.4.
Public Comments Received as to Proposed NSHC (Yes/No) | No.
Southern Nuclear Operating Company, Inc.; Vogtle Electric Generating Plant, Units 3 and 4; Burke County, GA
Docket Nos | 52-025, 52-026.
Amendment Date | December 31, 2025.
ADAMS Accession No | ML25351A043.
Amendment Nos | 211 and 209.
Brief Description of Amendments | The amendments revised Technical Specification (TS) 3.7.6, “Main Control Room Emergency Habitability System (VES),” and TS 3.3.13, “Engineered Safety Feature Actuation System (ESFAS) Main Control Room Isolation, Air Supply Initiation, and Electrical Load De-energization.”
Public Comments Received as to Proposed NSHC (Yes/No) | No.
Tennessee Valley Authority; Browns Ferry Nuclear Plant, Units 1, 2, and 3; Limestone County, AL
Docket Nos | 50-259, 50-260, 50-296.
Amendment Date | December 18, 2025.
ADAMS Accession No | ML25337A128.
Amendment Nos | 337 (Unit 1), 360 (Unit 2), and 320 (Unit 3).
Brief Description of Amendments | The amendments revised the Browns Ferry Nuclear Plant, Units 1, 2, and 3, technical specifications by adopting Technical Specification Task Force (TSTF) Traveler TSTF-423-A, Revision 1, “Technical Specifications End States, NEDC-32998-A,” to modify the end state for selected Required Actions to allow the units to stay in Mode 3.
Public Comments Received as to Proposed NSHC (Yes/No) | No.
Tennessee Valley Authority; Browns Ferry Nuclear Plant, Units 1, 2, and 3; Limestone County, AL
Docket Nos | 50-259, 50-260, 50-296.
Amendment Date | December 18, 2025.
ADAMS Accession No | ML25335A121.
Amendment Nos | 338 (Unit 1), 361 (Unit 2) and 321 (Unit 3).
Brief Description of Amendments | The amendments revised Browns Ferry Nuclear Plant, Units 1, 2, and 3, Technical Specification Limiting Condition for Operation (LCO) 3.0.3 by adopting Technical Specification Task Force (TSTF) Traveler TSTF-597-A, “Eliminate LCO 3.0.3 Mode 2 Requirement.”
Public Comments Received as to Proposed NSHC (Yes/No) | No.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Amendment Date | December 18, 2025.
ADAMS Accession No | ML25134A248.
Amendment Nos | Sequoyah—374 (Unit 1) and 369 (Unit 2); Watts Bar—178 (Unit 1) and 83 (Unit 2).
Brief Description of Amendments | The amendments revised Sequoyah Nuclear Plant, Units 1 and 2, and Watts Bar Nuclear Plant, Units 1 and 2, Technical Specification Limiting Condition for Operation 3.5.2, “ECCS [Emergency Core Cooling System]—Operating,” Note 1, to include one residual heat removal pump flow path to perform pressure isolation valve testing.
Public Comments Received as to Proposed NSHC (Yes/No) | No.
Tennessee Valley Authority; Sequoyah Nuclear Plant, Units 1 and 2; Hamilton County, TN; Tennessee Valley Authority; Watts Bar Nuclear Plant, Units 1 and 2; Rhea County, TN
Docket Nos | 50-327, 50-328, 50-390, 50-391.
Amendment Date | December 9, 2025.
ADAMS Accession No | ML25328A120.
Amendment Nos | Sequoyah—373 (Unit 1) and 368 (Unit 2); Watts Bar—177 (Unit 1) and 82 (Unit 2).
Brief Description of Amendments | The amendments revised Sequoyah Nuclear Plant, Units 1 and 2, (Sequoyah) and Watts Bar Nuclear Plant, Units 1 and 2, (Watts Bar) Technical Specification (TS) 1.1, “Use and Application Definitions,” and added new Sequoyah TS 5.5.19 and new Watts Bar TS 5.7.2.24, “Online Monitoring Program,” to permit the use of an online monitoring methodology (OLM) as the technical basis to switch from time-based surveillance frequency for channel calibrations to a condition-based calibration frequency based on OLM results.
Public Comments Received as to Proposed NSHC (Yes/No) | Yes.
Vistra Operations Company LLC; Perry Nuclear Power Plant, Unit No. 1; Lake County, OH
Docket No | 50-440.
Amendment Date | December 19, 2025.
ADAMS Accession No | ML25343A180.
Amendment No | 205.
Brief Description of Amendment | The amendment revised the technical specifications in accordance with Technical Specifications Task Force (TSTF) Traveler TSTF-597, Revision 0, “Eliminate LCO [Limiting Conditions for Operations] 3.0.3 Mode 2 Requirement.”
Public Comments Received as to Proposed NSHC (Yes/No) | No.
Wolf Creek Nuclear Operating Corporation; Wolf Creek Generating Station, Unit 1; Coffey County, KS
Docket No | 50-482.
Amendment Date | December 10, 2025.
ADAMS Accession No | ML25317A783.
Amendment No | 245.
Brief Description of Amendment | The amendment approved a deviation from the fire protection program requirements to allow the use of portable lighting.
Public Comments Received as to Proposed NSHC (Yes/No) | No.

Dated: January 8, 2026.
For the Nuclear Regulatory Commission.
Hipólito González,
Acting Deputy Director, Division of Operating Reactor Licensing, Office of Nuclear Reactor Regulation.

[FR Doc. 2026-00923 Filed 1-16-26; 8:45 am]

BILLING CODE 7590-01-P